DEPARTMENT OF THE INTERIOR

Fish and Wildlife Service

Mississippi Sandhill Crane National Wildlife Refuge in Jackson County, Mississippi; Availability of Draft Comprehensive Conservation Plan and Environmental Assessment

AGENCY: Fish and Wildlife Service, Interior.

ACTION: Notice of availability.

SUMMARY: The Fish and Wildlife Service announces that a Draft Comprehensive Conservation Plan and Environmental Assessment for Mississippi Sandhill Crane National Wildlife Refuge are available for review and comment. This draft plan and environmental assessment were prepared pursuant to the National Wildlife Refuge System Administration Act, as amended, and the National Environmental Policy Act. The draft plan describes the Service's proposal for management of the refuge for 15 years.

DATES: Written comments must be received at the postal or electronic addresses listed below no later than December 22, 2006.

ADDRESSES: To provide written comments or to obtain a copy of the draft plan and environmental assessment, please write to the Mississippi Sandhill Crane National Wildlife Refuge, 7200 Crane Lane, Gautier, Mississippi 39553; Telephone 601/497-6322. Comments may also be submitted via electronic mail to mike_dawson@fws.gov. The plan and environmental assessment may be accessed and downloaded from the Service's Internet site: http://southeast.fws.gov/planning/.

SUPPLEMENTARY INFORMATION: The National Wildlife Refuge System Administration Act of 1966, as amended by the National Wildlife Refuge System Improvement Act of 1997 (16 U.S.C. 668dd-668ee), requires the Service to develop a plan for each refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

A meeting will be held to present the plan to the public. Mailings, newspaper articles, and posters will be the avenues to inform the public of the date and time for the meeting.

After the review and comment period for the draft plan and environmental assessment, all comments will be analyzed and considered by the Service. All comments received from individuals on the draft plan and environmental assessment become part of the official public record. Requests for such comments will be handled in accordance with the Freedom of Information Act and Service and Departmental policies and procedures.

Mississippi Sandhill Crane National Wildlife Refuge was established in 1975 to safeguard the critically endangered Mississippi sandhill crane and its unique disappearing habitat.

Significant issues addressed in the draft plan include: Threatened and endangered species; waterfowl management; neotropical migratory birds; savanna restoration; visitor services (e.g., fishing, wildlife observation, wildlife photography, and environmental education and interpretation); staffing; and cultural resources. The Service developed four alternatives for managing the refuge and chose Alternative D as the proposed alternative.

Under Alternative A, the No Action Alternative, present management would continue. Current approaches to managing and protecting cranes, other wildlife and habitats, and allowing for public use would remain unchanged.

With regard to the endangered Mississippi sandhill crane, the refuge's objective would be to maintain a population of 110-130 individuals, including 20-25 nesting pairs, while fledging 2-4 young annually. Staff would cultivate 15-40 acres of chufa in multiple food plots to provide foraging areas for the cranes. The refuge would also maintain 14 existing ponds; these provide roosting, feeding, and release pen habitat for cranes. Predator control would need to continue, since predation is one of the key factors in retarding successful recruitment of young and achievement of a self-sustaining population. The refuge's objective would be to conduct sufficient predator control to allow for 40 percent hatching success, 25 percent fledging success, and 75 percent survival of after-hatch-year birds. Two to three red-tailed hawks, one of the principal predators of nestling and juvenile cranes, would be removed annually.

The refuge would continue to furnish incidental benefits for other native wildlife species. It would also maintain the current habitat mix for the benefit of other migratory birds, including waterfowl, shorebirds, marsh birds, and landbirds. Staff would continue existing amphibian surveys to monitor long-term population trends and health of these vertebrates. Managers would continue to record casual sightings of invertebrates, while maintaining incidental benefits to invertebrates from various management actions.

Habitat objectives are oriented toward providing benefits to wildlife, and thus overlap wildlife objectives to some extent. The main habitat the refuge strives to restore and manage is pine savanna, particularly wet pine savanna. Under Alternative A, refuge management would continue to provide 8,000-10,000 acres of savanna habitat to benefit the Mississippi sandhill crane and priority grassland bird species. The staff would maintain the current habitat mix to provide incidental benefits to other migratory birds, including waterfowl, shorebirds, marsh birds, and landbirds. Fire management, in particular prescribed fire, is an important ecological tool in maintaining savanna habitat against encroachment by woody vegetation and trees. The refuge would continue to aim for conducting prescribed fires on all compartments on a 2-3 year rotation, although attaining this objective would depend on weather conditions. Other habitats on the refuge would be maintained at current levels and in the same locations as at present: Approximately 9,000 acres in pine flatwood forest; 1,300 acres in forested wetlands; and 600 acres in open water.

Resource protection would continue to be carried out as it is currently. One hundred acres of cogongrass would be targeted for annual spraying to reduce infestations of this non-native weed. Tallow trees and other invasives would be controlled or eliminated as opportunities arise. The refuge's Private Lands program would remain the same, with passive management of 12 Farm Service Agency tracts totaling 2,203 acres (1,975 acres in fee title and 228 acres in easement). At present, the refuge has one collateral duty officer (0.25 FTE) and shares a law enforcement officer with Grand Bay National Wildlife Refuge. The refuge would follow standard Service protocol and procedures in conducting cultural resource surveys.

Existing public use and environmental education programs would be maintained. The refuge would continue to serve the public without being guided by a Visitor Services Management Plan, relying instead on experience and general Service mandates and practices. A new headquarters/visitor center would be constructed.

Current wildlife observation and wildlife photography programs and facilities would be maintained. These include guided crane tours in vans every January and February, two hiking/nature trails, and observation/photography blinds. The refuge would maintain environmental education and interpretation at their current levels, including participation in community events, on-site and off-site environmental education, guided tours, and interpretive trails. The refuge would technically remain closed to sport hunting and fishing, though the latter would continue to be available to anglers in watercraft (e.g., boats, canoes, and kayaks) entering the refuge on bayous under State jurisdiction and management.

Under Alternative B, the refuge would emphasize its biological program by applying maximum efforts to enhance habitat conditions and increase wildlife populations, particularly the endangered crane. The visitor services program would remain as it is at present. An assistant refuge manager would be hired for supervisory and administrative support.

With regard to the endangered Mississippi sandhill crane, the refuge's objective would be to provide for a self-sustaining crane population of 130 to 170 individuals, including 30-35 nesting pairs, fledging 10-15 young annually for at least 10 years. Chufa cultivation would expand to 40-60 acres, and winter cover crops and legumes would be planted on up to 20 acres within food plots. Staff would also create a food plot in the Fontainbleau Unit in addition to exploring opportunities with partners to protect existing and extend potential foraging areas off-refuge would continue to maintain 14 existing ponds, which provide roosting, feeding, and release pen habitat for cranes. In addition to these 14 ponds, 10 new small, shallow ponds would be created. Staff would clear overgrown interiors of five Grady ponds. An additional equipment operator would be hired to assist with construction and maintenance.

Under Alternative B, predator management for Mississippi sandhill crane survival would increase to allow for 60 percent hatching success, 67 percent fledging success, and over 80 percent survival of after-hatch-year birds. Up to 10 red-tailed hawks would be removed annually.

The refuge would also continue to furnish incidental benefits to other native wildlife species. It would provide 15,000-17,000 acres of savanna habitat to benefit priority grassland bird species, as well as the Mississippi sandhill crane. This would be an increase of 7,000 acres over Alternative A. Alternative B would aim to increase the refugee's knowledge about other migratory birds by developing and implementing monitoring programs. Staff would continue existing amphibian surveys to monitor long-term population trends and health of these vertebrates. The refuge would maintain and develop habitats and promote management actions that would support viable populations of both amphibians and reptiles.

The refuge would conduct periodic sampling to evaluate incidental benefits to invertebrates from various management actions. Management of invertebrates would increase overall by maintaining the native diversity of butterfly and dragonfly species as indicators of biodiversity, and by providing for high-quality orthoptera and related species numbers for food by the sandhill cranes and their young.

Under Alternative B, pine savanna acreage would increase. Fire management, particularly prescribed fire, is an important ecological tool in maintaining savanna habitat against encroachment by woody vegetation and trees. Under Alternative B, the refuge would continue to aim for conducting prescribed fires on all compartments on a 2-3 year rotation, although attaining this objective would depend on weather conditions. Pine flatwood forests would be reduced to 2,000-5,000 acres (from 9,000 acres currently), because the majority of this habitat would be converted to pine savanna (i.e., opened up and thinned out), which is more desirable to cranes and other indigenous species of management concern. Forested wetlands would be maintained at current levels (1,300 acres) and the acreage of open water, that is, bayous and ponds, would increase somewhat from the construction of 10 new ponds.

Under Alternative B, resource protection would be intensified. The main invasive species at present is cogongrass, and the refuge's objective would be to reduce cogongrass by 90 percent within 5 years, to total no more than 15 acres. A program would also be developed to control tallow trees and other invasive species. In the refuge's Private Lands Program, staff would work with private landowners of the 12 Farm Service Agency tracts to manage and improve habitats. Staff would also reduce cogongrass on these areas and explore opportunities with partners to protect existing and extend potential foraging areas off-refuge. The refuge would partner with The Nature Conservancy and other nearby landowners on fire management issues and biological assistance.

Current wildlife observation, wildlife photography, and environmental education and interpretation programs would be maintained under the Alternative B. As in Alternative A, the refuge would technically remain closed to sport hunting and fishing.

Under Alternative C, management would focus on maximizing opportunities for public visitation, increasing both facilities and activities throughout the 15-year duration of the plan. Current approaches to managing and protecting cranes and other wildlife and habitats would remain unchanged. An assistant refuge manager would be hired for supervisory and administrative support.

One difference between Alternatives C and A is in the area of law enforcement: Alternative C would provide a full-time law enforcement officer to protect refuge resources and the public. With regard to cultural resources, including those of an archaeological or historical nature, within 15 years of the plan's approval, the refuge would develop and begin to implement a Cultural Resources Management Plan.

Public use and environmental education would increase under Alternative C. Within 3 years of plan completion, the refuge would develop a Visitor Services Management Plan to be used in expanding public use facilities and opportunities on the refuge. This step-down management plan would provide overall, long-term direction and guidance in developing and running a larger public use program. The Service would construct a new headquarters and a separate visitor center. The new visitor center would include a small auditorium for use in talks, meetings, films, videos, and other audiovisual presentations.

Alternative C would also increase opportunities for visitors by adding facilities such as photo-blinds, observation sites, and trails, including boardwalks. Two on-refuge auto tours would be developed as well.

Over the 15-year life of the plan, the staff would increase emphasis on environmental education and interpretation to lead to a better understanding of the importance of wildlife and habitat resources, especially sandhill cranes, savanna, fire ecology, invasive species, endangered species, and migratory birds. A public use specialist would be hired. Within 5 years of plan approval, the refuge would prepare a Fishing Plan that would outline permissible fishing opportunities within the refuge and a Hunting Plan that would allow for a limited deer hunt. The refuge would construct a fishing pier and canoe and kayak trail with access point.

Under Alternative D, the proposed alternative, the refuge would strive to optimize both its biological program and its visitor services program. Thus it would include certain elements of Alternative B, which emphasizes the biological program, and Alternative C, which focuses on the visitor services program. Alternative D recognizes that there may be tradeoffs and opportunity costs between the various elements of the biological and visitor services programs. Hence, Alternative D stresses the principle of optimization rather than maximization of wildlife, habitat, and public use outputs. An assistant refuge manager would be hired for supervisory and administrative support.

With regard to the endangered Mississippi sandhill crane, the refuge's objective would be the same as Alternative B. Also, objectives to furnish incidental benefits to other native wildlife species would be the same as Alternative B. The main habitat the refuge strives to restore and manage is pine savanna, particularly wet pine savanna. Under Alternative D, savanna acreage would increase.

Under Alternative D, resource protection at the refuge would be intensified from the level now maintained in Alternative A. Efforts to control invasive species would increase. The main invasive species at present is cogongrass, and the refuge's objective would be to reduce the species by 80 percent within 5 years. Tallow trees and other invasive species would continue to be controlled or eliminated as opportunities are available. In the refuge's Private Lands Program, staff would work with private landowners of the 12 Farm Service Agency tracts to manage and improve habitats. Staff would also explore opportunities with partners to protect existing and extend potential foraging areas off-refuge. The refuge would partner with The Nature Conservancy and other nearby landowners on fire management issues and biological assistance.

Alternative D would provide a full-time law enforcement officer, an equipment operator, a maintenance mechanic, and a wildlife technician. The refuge would develop and begin to implement a Cultural Resources Management Plan. Until such time as the plan is completed and implemented, the refuge would follow standard Service protocol and procedures in conducting cultural resource surveys.

Public use and environmental education would increase under Alternative D. Within 3 years of the plan's completion, the refuge would develop a Visitor Services Plan to be used in expanding public use facilities and opportunities on the refuge. This step-down management plan would provide overall, long-term direction and guidance in developing and running a larger public use program. Within the 15-year planning horizon, the Service would construct a new visitor center near the existing one and convert the existing visitor center into a refuge headquarters. The new visitor center would include a small auditorium for use in talks, meetings, films, videos, and other audiovisual presentations.

Alternative D would also increase opportunities for visitors by adding facilities such as photoblinds, observation sites, and trails, but would not include boardwalks. One or more on-refuge auto tours would be developed as well.

Over the 15-year life of the plan, the staff would increase emphasis on environmental education and interpretation to lead to a better understanding of the importance of wildlife and habitat resources, especially sandhill cranes, savanna, fire ecology, invasive species, endangered species, and migratory birds. Within 5 years of the plan's approval, the refuge would prepare a Fishing Plan that would outline permissible fishing opportunities within the refuge. The refuge would also construct a fishing pier on the bayou and a canoe and kayak trail with access point. Staff would investigate opportunities for limited hunting possibilities.

Authority: This notice is published under the authority of the National Wildlife Refuge System Improvement Act of 1997, Public Law 105-57.

Dated: October 11, 2006.
Cynthia K. Dohner,
Acting Regional Director.

[FR Doc. 06-9343 Filed 11-21-06; 8:45 am]

BILLING CODE 4310-55-M